DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by March 8, 2004.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531, et seq.). Written data, comments, or requests for copies of these complete applications should be submitted to the Director (address above).

Applicant: Isaac E. James, Denair, CA, PRT-081538.

The applicant requests a permit to import the sport-hunted trophy of one male bontebok (Damaliscus pygargus dorcas) culled from a captive herd maintained under the management program of the Republic of South Africa, for the purpose of enhancement of the survival of the species.

Applicant: Iowa State University, Ames, Iowa, PRT-079368.

The applicant requests a permit to import samples obtained from wild Tartaruga, Podocnemis expanasa, leatherback sea turtle (Dermochelys coriacea), and hawksbill sea turtle (Eretmochelys imbricata), for the purpose of scientific research. This notification covers activities to be conducted by the applicant over a five-year period.

Applicant: Drexel University, Philadelphia, PA, PRT-814546.

The applicant requests amendment of a permit to import samples and non-viable eggs obtained from wild green sea turtle, Chelonia mydas, leatherback sea turtle Dermochelys coriacea, and Olive Ridley sea turtle, Lepidochelys olivacea. for the purpose of scientific research. The applicant is seeking to import additional samples obtained from 100 viable leatherback sea turtle eggs. This notification covers activities to be conducted by the applicant through December 31, 2007.

Applicant: Arkansas State University, State University, AR, PRT-081603.

The applicant requests a permit to export and re-import non-living museum specimens of endangered and threatened species of plants and animals previously accessioned into the applicant's collection for scientific research. This notification covers activities to be conducted by the applicant over a five-year period.

Applicant: Louisiana State University Museum of Natural Science, Baton Rouge, LA, PRT-003005.

The applicant requests a renewal of their permit to export and re-import non-living museum specimens of endangered and threatened species of plants and animals previously accessioned into the applicant's collection for scientific research. This notification covers activities to be conducted by the applicant over a five-year period.

Endangered Marine Mammals and Marine Mammals

The public is invited to comment on the following applications for a permit to conduct certain activities with endangered marine mammals and/or marine mammals. The applications were submitted to satisfy requirements of the Endangered Species Act of 1973, as amended (16 U.S.C. 1531, et seq.) and/or the Marine Mammal Protection Act of 1972, as amended (16 U.S.C. 1361 et seq.), and the regulations governing endangered species (50 CFR part 17) and/or marine mammals (50 CFR part 18). Written data, comments, or requests for copies of the complete applications or requests for a public hearing on these applications should be submitted to the Director (address above). Anyone requesting a hearing should give specific reasons why a hearing would be appropriate. The holding of such a hearing is at the discretion of the Director.

Applicant: Nova Southeastern University, Dania Beach, Florida, PRT-080580.

The applicant requests a permit to conduct research using infrared and sonar camera imaging on up to 50 captive and/or wild Florida manatee, Trichechus manatus latirostris per year for the purposes of scientific research. This notification covers activities to be conducted by the applicant over a five-year period.

Concurrent with the publication of this notice in the Federal Register, the Division of Management Authority is forwarding copies of the above applications to the Marine Mammal Commission and the Committee of Scientific Advisors for their review.

Applicant: Lance K. Parks, Billings, MT, PRT-081539.

The applicant requests a permit to import a polar bear (Ursus maritimus) sport hunted from the Baffin Bay polar bear population in Canada prior to February 18, 1997, for personal use.

Applicant: Hubert K. Wooten, Raeford, NC, PRT-081715.

The applicant requests a permit to import a polar bear (Ursus maritimus) sport hunted from the Gulf of Boothia polar bear population in Canada prior to February 18, 1997, for personal use.

Applicant: James M. Williams, Jackson, MS, PRT-081755.

The applicant requests a permit to import a polar bear (Ursus maritimus) sport hunted from the Baffin Bay polar bear population in Canada prior to February 18, 1997, for personal use.

Applicant: James A. Crane, Jr., Blythewood, SC, PRT-081966.

The applicant requests a permit to import a polar bear (Ursus maritimus) sport hunted from the Foxe Basin polar bear population in Canada prior to February 18, 1997, for personal use.

Applicant: Robert B. Rhyne, Sharon, SC, PRT-081994.

The applicant requests a permit to import a polar bear (Ursus maritimus) sport hunted from the Foxe Basin polar bear population in Canada prior to February 18, 1997, for personal use.

Dated: January 16, 2004.
Charles S. Hamilton,
Senior Permit Biologist, Branch of Permits, Division of Management Authority.

[FR Doc. 04-2431 Filed 2-4-04; 8:45 am]

BILLING CODE 4310-55-P